COMMISSION ON CIVIL RIGHTS

Agency Information Collection Activities; Proposals, Submissions, and Approvals: Qualification Information for Candidates to Advisory Committees

AGENCY: U.S. Commission on Civil Rights.

ACTION: Notice.

SUMMARY: The U.S. Commission on Civil Rights (“Commission” or “USCCR”) is announcing an opportunity for public comment on the proposed collection of qualification information for advisory committee candidates by the agency. Under the Paperwork Reduction Act (“PRA”), Federal agencies are required to publish notice in the Federal Register concerning each proposed collection of information, and to allow 60 days for public comment.

DATES: Comments must be received on or before March 7, 2023.

ADDRESSES: You may submit comments, identified by subject matter “Qualification Information for Candidates to Advisory Committees,” and by any of the following methods:

• You may electronically submit written comments to USCCR at publicaffairs@usccr.gov and/or sccozart@usccr.gov.

• Mail: Sheryl Cozart, Senior Attorney-Advisor, Office of the General Counsel, Office of the General Counsel, U.S. Commission on Civil Rights, 1331 Pennsylvania Avenue NW, Suite 1150, Washington, DC 20425.

• Hand Delivery/Courier: Same as Mail above.

Please submit your comments using only one method. All comments must be submitted in English, or if not, accompanied by an English translation. Comments will be posted as received to www.usccr.gov/news/advisory-committees-news and/or https://www.usccr.gov/news/commission-news.

FOR FURTHER INFORMATION CONTACT: Sheryl Cozart, Senior Attorney-Advisor, Office of the General Counsel, Office of the General Counsel, U.S. Commission on Civil Rights, 1331 Pennsylvania Avenue NW, Suite 1150, Washington, DC 20425; phone: 202-839-7255; email: sccozart@usccr.gov.

SUPPLEMENTARY INFORMATION: Under the PRA, 44 U.S.C. 3501 et seq., Federal agencies must obtain approval from the Office of Management and Budget (“OMB”) for each collection of information they conduct or sponsor. “Collection of Information” is defined in 44 U.S.C. 3502(3) and 5 CFR 1320.3 and includes agency requests or requirements that members of the public obtain or report information. Section 3506(c)(2)(A) of the PRA, 44 U.S.C. 3506(c)(2)(A), requires Federal agencies to provide a 60-day notice in the Federal Register concerning each proposed collection of information, before submitting the collection to OMB for approval. To comply with this requirement, the USCCR is publishing notice of the proposed collection of information listed below. An agency may not conduct or sponsor, and a person is not required to respond to, a collection of information unless it displays a currently valid OMB control number.¹

¹ 44 U.S.C. 3512, 5 CFR 1320.5(b)(2)(i) and 1320.8(b)(3)(vi).

Title: “Qualification Information for Candidates to Advisory Committees.” This is a request for a new OMB control number.

Abstract: The Commission studies civil rights issues and subsequently publishes reports with recommendations to inform the President, Congress, and the public. The USCCR's Advisory Committees were created to provide input and make recommendations to the Commission concerning discrimination and denial of equal protection of law, the right to vote, and related civil rights issues. The Commission was established by the Civil Rights Act of 1957, Public Law 815-315, and subsequently modified in the Civil Rights Commission Amendments Act of 1994, 42 U.S.C. 1975a. These laws direct the Commission to establish Advisory Committees for each state, the District of Columbia, and five U.S. territories. These non-discretionary, statutory Advisory Committees are subject to the Federal Advisory Committee Act (FACA), Public Law 92-463 codified as 5 U.S.C. app. 2.

As noted above, the 56 Advisory Committees advise the Commission on civil rights issues that the Committees choose to evaluate. The Commission may also ask Advisory Committees to take up a civil rights topic in support of a Commission investigation. After a Committee's report is submitted, the Commission may invite the Advisory Committee Chair to discuss the report, including the findings and recommendations, at regularly scheduled Commission business meetings. The Commission may notify the U.S. Congressional delegation for the particular locale that the advisory committee within their jurisdiction has published a report. In addition, the Commission may distribute Committee reports to the federal, state, and local bodies that are identified in the Committee report. Lastly, individual Commissioners often attend the Advisory Committee meetings, which are open to the general public.

The USCCR identifies candidates for advisory committee membership through a variety of methods, including, but not limited to, public requests for nominations; recommendations from existing advisory committee members; consultations with knowledgeable persons outside the USSCR (academia, non-profits, other state or federal government agencies, academia, etc.); and Commissioners' and USCCR staff's professional knowledge of those experienced in civil rights. Following the identification process, the USCCR develops a list of proposed members with the relevant points of view needed to ensure membership balance. The USCCR Commissioners then vote to appoint individuals to serve four-year terms as Advisory Committee Members. Advisory Committee Members are generally classified as Representatives. Representatives provide the viewpoints of entities or recognizable groups and are expected to potentially represent a particular and known bias or perspective.

The collection of information is necessary to support the USCCR Advisory Committees by placing qualified individuals on them as members. Pursuant to the FACA, an agency must ensure that a committee is balanced with respect to the viewpoints represented and the functions to be performed by that committee. Consistent with this, in order to select individuals for potential membership on an advisory committee, the USCCR must determine that potential members are qualified to serve on an advisory committee and that the viewpoints are properly balanced on the committee.

USCCR staff would use the information collected to determine the members come from the rich and diverse backgrounds of all of the United States and its Territories that USCCR wishes to have represented on its Advisory Committees, to determine the civil rights experience and expertise of potential advisory committee members, and to ensure that the membership on a committee is balanced.

The USCCR seeks to collect the following information: Information that supports an individual's state or territory residency requirements, civil rights experience and expertise to serve on an advisory committee, including a letter discussing their qualifications, resume or curriculum vitae, and/or other similar biographical information documents such as name and address and social media handles. Additionally, the USCCR seeks to collect information that ensures membership balance (e.g., represented viewpoint category), and that potential members broadly represent the demographics and/or viewpoints of the United States and its Territories' varied and diverse backgrounds including, but not limited to, education, occupation, political affiliation and/or ideology, race/ethnicity, national origin, gender, sexual orientation, disability status, age, religion, and veteran status.

With respect to the collection of information, the USCCR invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

You should submit only information that you wish to make available publicly. If you wish the Commission to consider information that you believe is exempt from disclosure under the Freedom of Information Act, a petition for confidential treatment of the exempt information may be submitted according to the procedures established in § 704.1 of the Commission's regulations.²

² 45 CFR 704.1.

The Commission reserves the right, but shall have no obligation, to review, pre-screen, filter, redact, refuse or remove any or all of your submission from http://www.USCCR.gov or other USCCR website to which it posts comments that it may deem to be inappropriate for publication, such as obscene language. All submissions that have been redacted or removed that contain comments on the merits of the Information Collection Request will be retained in the public comment file and will be considered as required under the Administrative Procedure Act and other applicable laws, and may be accessible under the Freedom of Information Act.

Burden Statement: The respondent burden for this collection is estimated to be as follows for each currently vacant Advisory Committee:

Estimated Number of Respondents: 22.

Estimated Average Burden Hours per Respondent: 1.5 hours.

Estimated Total Annual Burden Hours: 33 hours.

Frequency of Collection: As needed.

There are no capital costs or operating and maintenance costs associated with this collection.

(Authority: 44 U.S.C. 3501 et seq.)

Dated: January 6, 2022.
David Ganz,
General Counsel, USCCR.

[FR Doc. 2023-00371 Filed 1-10-23; 8:45 am]

BILLING CODE 6335-01-P